DEPARTMENT OF THE INTERIOR

Fish and Wildlife Service

[FWS-R9-IA-2009-N179; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species and/or marine mammals. Both the Endangered Species Act and the Marine Mammal Protection Act require that we invite public comment on these permit applications.

DATES: Written data, comments or requests must be received by October 8, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Texas Tech University, Department of Biological Sciences, Lubbock, TX, PRT-219951

The applicant requests a permit to import unlimited numbers of biological specimens from crocodiles, alligators, caimans, and gavials (Order: Crocodylia) for the purpose of scientific research. This notification covers activities to be conducted by the applicant over a five-year period.

Applicant: Florida Fish and Wildlife Conservation Commission, Port Charlotte, FL, PRT-221391

The applicant requests a permit to export biological samples from smalltoothed sawfish (Pristis pectinata) to the Great Lakes Institute for Environmental Research, Windsor, Ontario, Canada, for the purpose of scientific research.

Applicant: Atlanta-Fulton County Zoo, Atlanta, GA, PRT-222610

The applicant requests a permit to export one female captive-bred giant panda (Ailuropoda melanoleuca) born at the zoo in 2006 and owned by the Government of China, to the Chengdu Research Base of Giant Panda Breeding, Sichuan, China, under the terms of their loan agreement with the Chinese Association of Zoological Gardens. This export is part of the approved loan program for the purpose of enhancement of the survival of the species through scientific research as outlined in Zoo Atlanta's original permit (MA008519).

Applicant: Earth Promise, doing business as Fossil Rim Wildlife Center, Glen Rose, TX, PRT-223400

The applicant requests a permit to export one male captive-born black rhinoceros (Diceros bicornis) to the Africam Safari, Puebla, Mexico, for the purpose of the enhancement of the survival of the species.

Applicant: New York University College of Dentistry, New York, NY, PRT-225797

The applicant requests a permit to import biological samples of skeletal parts salvaged from both captive and wild populations of black rhinoceros (Diceros bicornis), mountain gorilla (Gorilla gorilla beringei), chimpanzee (Pan troglodytes ), leopard (Panthera pardus), and L'Hoest's monkey (Cercopithecus lhoesti) from the Office Rwandais du Tourisme et des Parcs Nationaux, Kigali, Rwanda, for the purpose of scientific research. This notification covers activities to be conducted by the applicant over a five-year period.

Applicant: Ferdinand and Anton Fercos-Hantig, Las Vegas, NV, PRT-809334

On July 28, 2009, we published a Federal Register notice inviting the public to comment on several applications for permits to conduct certain activities with endangered species (74 FR 37240). We made an error in reporting the species of one animal in the Ferdinand and Anton Fercos-Hantig applications, which starts at the bottom of column 1 on page 37241. The animal named Sarina (PRT-809334) is not a female captive-born tiger (Panthera tigris) as we reported in 74 FR 37240, but rather a female captive-born leopard (Panthera pardus). All the other information we printed was correct. With this notice, we correct that error and reopen the comment period for PRT-809334. The corrected entry for this application is as follows: The applicant requests re-issuance of their permit to export/re-export and re-import one female captive-born leopard (Panthera pardus), “Sarina,” to worldwide locations for the purpose of enhancement of the species through conservation education. This notification covers activities to be conducted by the applicant over a 3-year period and the import of any potential progeny born while overseas.

The following applicants request a permit to import the sport-hunted trophy of one male bontebok (Damaliscus pygargus pygargus) culled from a captive herd maintained under the management program of the Republic of South Africa, for the purpose of enhancement of the survival of the species.

Applicant: George H. Brannen, Inverness, FL, PRT-217639

Applicant: Ralph D. Miller, Delta Junction, AK, PRT-221404

Applicant: Mark Peterson, Slinger, WI, PRT-222050

Applicant: Leigh M. Barry, Dent, MN, PRT-222865

Applicant: Patrick T. O'Brien, Bath, OH, PRT-233187

Marine Mammals

The public is invited to comment on the following applications for a permit to conduct certain activities with endangered marine mammals and/or marine mammals. The applications were submitted to satisfy requirements of the Endangered Species Act of 1973, as amended (16 U.S.C. 1531 et seq.) and/or the Marine Mammal Protection Act of 1972, as amended (16 U.S.C. 1361 et seq.), and the regulations governing endangered species (50 CFR Part 17) and/or marine mammals (50 CFR Part 18). Submit your written data, comments, or requests for copies of the complete applications or requests for a public hearing on these applications to the address shown in ADDRESSES. If you request a hearing, give specific reasons why a hearing would be appropriate. The holding of such a hearing is at the discretion of the Director.

Applicant: Charles Grossman, Xavier University, Cincinnati, OH, PRT-049136

The applicant requests an amendment to his permit to allow him to acquire up to three larynxes (including pharynxes, trachea, and primary bronchi) per year from dead, necropsied Florida manatees (Trichechus manatus) from the Florida Fish and Wildlife Conservation Commission in St. Petersburg, Florida, for the purpose of scientific research on the mechanics of manatee vocalizations. This notification covers activities to be conducted by the applicant over the remainder of his five-year permit.

Applicant: Alaska Department of Fish and Game, Fairbanks, AK, PRT-220876

The applicant requests a permit to tag and collect skin biopsy samples from up to 45 walrus (Odobenus rosmarus) and to harass up to 1800 non-target animals per year for the purpose of scientific research. This notification covers activities to be conducted by the applicant over a five-year period.

Concurrent with publishing this notice in the Federal Register, we are forwarding a copy of the above application to the Marine Mammal Commission and the Committee of Scientific Advisors for their review.

Applicant: Emma K. Napper, The Natural World, BBC Natural History Unit, Bristol, United Kingdom, PRT-221257

The applicant requests a permit to photograph Southern sea otters (Enhydra lutris nereis), both above and under water, for commercial and educational purposes. This notification covers activities to be conducted by the applicant over a one-year period.

Dated: August 28, 2009.
Lisa J. Lierheimer
Senior Permit Biologist, Branch of Permits, Division of Management Authority

[FR Doc. E9-21475 Filed 9-4- 09; 8:45 am]

BILLING CODE 4310-55-S